DEPARTMENT OF STATE

[Public Notice: 9397]

Notifications to the Congress of Proposed Commercial Export Licenses

AGENCY: Bureau of Political-Military Affairs, Directorate of Defense Trade Controls, Department of State.

ACTION: Notice.

SUMMARY: Notice is hereby given that the Department of State has forwarded the attached Notifications of Proposed Export Licenses to the Congress on the dates indicated on the attachments pursuant to sections 36(c) and 36(d), and in compliance with section 36(f), of the Arms Export Control Act.

DATES: Effective Date: As shown on each of the 48 letters.

FOR FURTHER INFORMATION CONTACT: Ms. Lisa V. Aguirre, Directorate of Defense Trade Controls, Department of State, telephone (202) 663-2830; email DDTCResponseTeam@state.gov. ATTN: Congressional Notification of Licenses.

SUPPLEMENTARY INFORMATION: Section 36(f) of the Arms Export Control Act (22 U.S.C. 2778) mandates that notifications to the Congress pursuant to sections 36(c) and 36(d) must be published in the Federal Register when they are transmitted to Congress or as soon thereafter as practicable.

Following are such notifications to the Congress:

March 11, 2015 (Transmittal No. DDTC 14-143)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of Sig Sauer rifles model Sig 516 full-auto rifles and accessories, model 516G2 full-auto rifles and accessories, and SD rifle silencers to the Indonesian Defence Force in Indonesia.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary Legislative Affairs

March 16, 2015 (Transmittal No. DDTC 14-110)

Honorable John A. Boehner, Speaker of the House of Representatives

Dear Mr. Speaker:

Pursuant to Section 36(c) of the Arms Export Control Act, I am transmitting certification of a proposed license for the export of defense articles, to include technical data, and defense services in the amount of $100,000,000 or more.

The transaction contained in the attached certification involves the export of defense articles, including technical data, and defense services to the Republic of Korea to support the Patriot Guidance Enhances Missile-Tactical (GEM-T) upgrade program and the Missile Assembly/Disassembly Facility (MADF).

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary Legislative Affairs

March 17, 2015 (Transmittal No. DDTC 14-141)

Honorable John A. Boehner, Speaker of the House of Representatives

Dear Mr. Speaker:

Pursuant to Section 36(c) of the Arms Export Control Act, I am transmitting certification of a proposed license for the export of technical data and defense services in the amount of $50,000,000 or more.

The transaction contained in the attached certification involves the transfer of technical data and defense services to support the Falcon 9 integration and launch of the JCSAT-14 Commercial Communication Satellite from Cape Canaveral.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield,

Assistant Secretary Legislative Affairs

March 18, 2015 (Transmittal No. DDTC 14-151)

Honorable John A. Boehner, Speaker of the House of Representatives

Dear Mr. Speaker:

Pursuant to Section 36(c) of the Arms Export Control Act, I am transmitting certification of a proposed license for the export of firearms and components abroad controlled under Category I of the United States Munitions List in amount of $1,000,000 or more.

The transaction contained in the attached certification involves the export of various rifles, pistols, and revolvers with spare parts and accessories to Smith & Wesson Distributing, Inc. in Belgium.

The United States Government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary Legislative Affairs

March 20, 2015 (Transmittal No. DDTC 14-153)

Honorable John A. Boehner, Speaker of the House of Representatives

Dear Mr. Speaker:

Pursuant to Section 36(c) of the Arms Export Control Act, I am transmitting certification of a proposed license for the export of technical data and defense services in the amount of $100,000,000 or more.

The transaction contained in the attached certification proposes to transfer technical data and defense services to support upgrades to the NATO E-3 AWACS aircraft cockpit as part of the Communication Navigation Surveillance/Air Traffic Management (CNC/ATM) Cockpit Modernization Program for end use by the NATO AEW&C Program Management Organization.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary Legislative Affairs

March 25, 2015 (Transmittal No. DDTC 14-121)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export and assembly of firearm kits of Sig Sauer rifles and pistols which will be for use by the Mexican Navy, Ministries of National Defence, and Interior and Federal and State Police Forces of Mexico.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary Legislative Affairs

March 25, 2015 (Transmittal No. DDTC 14-147)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of defense articles, including technical data, and defense services to Argentina in support of the upgrade of both avionics and mission system equipment on five (5) C-130 aircraft, for end use by the Argentine Air Force.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary Legislative Affairs

March 25, 2015 (Transmittal No. DDTC 14-140)

Honorable John A. Boehner, Speaker of the House of Representatives

Dear Mr. Speaker:

Pursuant to Section 36(c) of the Arms Export Control Act, I am transmitting certification of a proposed license for the export of technical data and defense services in the amount of $50,000,000 or more.

The transaction contained in the attached certification involves the export of defense articles, including technical data, and defense services to Oman, Pakistan, and the United Kingdom in support of the Falcon Eye Project for end use by the Sultan's Special Forces of Oman.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Acting Assistant Secretary Legislative Affairs

March 30, 2015 (Transmittal No. DDTC 15-010)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of M4 Carbines and Holographic Weapon Sights and components for the Chilean Police.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary Legislative Affairs

April 15, 2015 (Transmittal No. DDTC 14-126)

Honorable John A. Boehner, Speaker of the House of Representatives

Dear Mr. Speaker:

Pursuant to Section 36(c) of the Arms Export Control Act, I am transmitting certification of a proposed transfer of defense articles, including technical data, and defense services in the amount of $50,000,000 or more.

The transaction contained in the attached certification involves the export of defense articles, including technical data, and defense services to Italy, Czech Republic, Switzerland, and the United Kingdom for the support of mechanical avionics, environmental, and lighting systems for the Joint Cargo Aircraft C-27J and industrial baseline variants for end-use by the Governments of Australia, Bulgaria, Canada, Chad, Greece, India, Italy, Lithuania, Mexico, Morocco, Peru, Romania, United Arab Emirates, and the United States.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 15, 2015 (Transmittal No. DDTC 14-134)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to support the manufacture of ground equipment, components, and assemblies for the Patriot Air Defense System.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 15, 2015 (Transmittal No. DDTC 14-136)

Honorable John A. Boehner, Speaker of the House of Representatives

Dear Mr. Speaker:

Pursuant to Section 36(c) of the Arms Export Control Act, I am transmitting certification of a proposed license amendment for the export of defense articles, including technical data, and defense services in the amount of $50,000,000 or more.

The transaction contained in the attached certification involves the export of defense articles, including technical data, and defense services to Afghanistan, Algeria, Azerbaijan, Canada, Denmark, India, Italy, Japan, Nigeria, Portugal, the Republic of Korea, Saudi Arabia, Turkey, Turkmenistan, and the United Kingdom for the support of helicopter seating systems, restraint systems, cockpit airbag systems, floor armor and associated components provided by BAE Systems to various end users.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 15, 2015 (Transmittal No. DDTC 15-002)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of five (5) Helicopters manufactured for Combat Utility to the Philippine Air Force.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 15, 2015 (Transmittal No. DDTC 15-009)

Honorable John A. Boehner, Speaker of the House of Representatives

Dear Mr. Speaker:

Pursuant to Sections 36(c) and 36(d) of the Arms Export Control Act, I am transmitting certification of a proposed license for export for the manufacture of significant equipment abroad and the export of defense articles, including technical data, and defense services in the amount of $100,000,000 or more.

The transaction contained in the attached certification involves the export of defense articles, including technical data, and defense services for continued support for manufacture of F110-GE-129 engines for the Japanese Ministry of Defense's F-2 aircraft.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 15, 2015 (Transmittal No. DDTC 14-108)

Honorable John A. Boehner, Speaker of the House of Representatives

Dear Mr. Speaker:

Pursuant to Section 36(c) of the Arms Export Control Act, I am transmitting certification of a proposed license for the export of firearm parts and components abroad controlled under Category I of the United States Munitions List in the amount of $1,000,000 or more.

The transaction contained in the attached certification involves the export of Law Enforcement Carbines, caliber 5.56x45 NATO, semi-automatic, for use by various Mexican State Governments under the Secretariat of National Defense for Mexico.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 21, 2015 (Transmittal No. DDTC 14-148)

Honorable John A. Boehner, Speaker of the House of Representatives

Dear Mr. Speaker:

Pursuant to Section 36(c) of the Arms Export Control Act, I am transmitting certification of a proposed license amendment for the export of defense articles, including technical data, and defense services and in the amount of $14,000,000 or more.

The transaction contained in the attached certification involves the export of defense articles, including technical data, and defense services to the United Arab Emirates to support the procurement, maintenance, and training of the C-17A Globemaster III transport aircraft.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 22, 2015 (Transmittal No. DDTC 14-142)

Honorable John A. Boehner, Speaker of the House of Representatives

Dear Mr. Speaker:

Pursuant to Sections 36(c) of the Arms Export Control Act, I am transmitting certification of a proposed license amendment for the export of defense articles, including technical data, and defense services in the amount of $100,000,000 or more.

The transaction contained in the attached certification involves the export of defense articles, including technical data, and defense services for the procurement of Mine Resistant Ambush Protected All-Terrain Vehicles (MRAP-ATVs) including associated spare parts, equipment, and support services for end-use by the Ministry of Defense of the Kingdom of Saudi Arabia.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

April 22, 2015 (Transmittal No. DDTC 14-129)

Honorable John A. Boehner, Speaker of the House of Representatives

Dear Mr. Speaker:

Pursuant to Section 36(c) and 36(d) of the Arms Export Control Act, I am transmitting certification of a proposed license for the export of defense articles, including technical data, and defense services in the amount of $50,000,000 or more.

The transaction contained in the attached certification involves the transfer of defense articles, including technical data, and defense services to Australia, Belgium, Canada, Demark, Germany, Greece, The Netherlands, Norway, Portugal, Spain, and Turkey to support the design, development, production, assembly, manufacture, and testing of Evolved SeaSparrow Missile (ESSM) Block 2 as part of the NATO SeaSparrow program.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 01, 2015 (Transmittal No. DDTC 15-029)

Honorable John A. Boehner, Speaker of the House of Representatives

Dear Mr. Speaker:

Pursuant to Section 36(c) of the Arms Export Control Act, I am transmitting certification of a proposed license for the export of firearm parts, and components abroad controlled under Category I of the United States Munitions List in amount of $1,000,000 or more.

The transaction contained in the attached certification involves the export of LaRue semi-automatic rifles, various calibers, and components to Heron Security and Sport PTY Ltd. in Australia for commercial resale.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 01, 2015 (Transmittal No. DDTC 15-008)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of sub-.50 caliber to .50 caliber inclusive non-automatic, semi-automatic, and fully automatic firearms and components for the Brazilian Ministry of Defense and the Brazilian Federal Police.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 01, 2015 (Transmittal No. DDTC 15-011)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, defense services, and manufacture know-how for the design and manufacture of the Air-to-Ground Pylons for the F-35 Lightning II aircraft in Turkey.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 06, 2015 (Transmittal No. DDTC 15-019)

Honorable John A. Boehner, Speaker of the House of Representatives

Dear Mr. Speaker:

Pursuant to Sections 36(c) and (d) of the Arms Export Control Act, I am transmitting certification of a proposed license for export for the manufacture of significant military equipment abroad and the export of defense articles, including technical data, and defense services in the amount of $50,000,000 or more.

The transaction contained in the attached certification involves the export of defense articles, including technical data, and defense services for the manufacture of T-16B Inertial Sensor Assemblies (ISAs), Accelerometer with Higher Level Triad Assembly, and associated Circuit Card Assemblies.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 07, 2015 (Transmittal No. DDTC 14-139)

Honorable John A. Boehner, Speaker of the House of Representatives

Dear Mr. Speaker:

Pursuant to Section 36(c) of the Arms Export Control Act, I am transmitting certification of a proposed license amendment for the export of technical data, and defense services in the amount of $100,000,000 or more.

The transaction contained in the attached certification involves the export of defense articles, including technical data, and defense services to Israel for the development and delivery of the Highly Available Aerostat System for end use by the Israel Ministry of Defense.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 07, 2015 (Transmittal No. DDTC 15-021)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of defense articles, including technical data, and defense services for the acquisition of eleven (11) T-6C aircraft along with maintenance, training, and logistics support for end use by the Mexican Secretaria De Marina Armada, also known as the Mexican Navy.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 07, 2015 (Transmittal No. DDTC 14-103)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of defense articles, including technical data, and defense services to Italy and Saudi Arabia to support the delivery, installation, integration, operation, training, testing, maintenance, and repair of the AN/TPS-72 radar system replacement program AN/TPS-78.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 11, 2015 (Transmittal No. DDTC 15-031)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of 4x32 ACOG Riflescopes to the Australian Army.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 12, 2015 (Transmittal No. DDTC 14-144)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of M60E4/Mk43 MOD1, M60D, and M2HB machine guns, accessories, and operator basic training to the Ministry of Defense in Tunisia.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 12, 2015 (Transmittal No. DDTC 15-003)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of defense articles, including technical data, and defense services to Norway, Oman, Spain, and United Kingdom to support the manufacture, integration, installation, operation, training, testing, and maintenance of the Project BARQ Ground Based Air Defense System.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 12, 2015 (Transmittal No. DDTC 15-020)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of defense articles, including technical data, and defense services for the acquisition of twenty-four (24) T-6C aircraft along with maintenance, training, and logistics support for end use by the Mexican Secretaria De La Defensa Nacional.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 12, 2015 (Transmittal No. DDTC 15-007)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to Australia to support the installation, checkout, test, retrofit, requirements verification, acceptance, operation, maintenance, and logistical support of MESA Radar/IFF subsystems and Follow-On Sustainment Support Services (FOSSS) for the Royal Australian Air Force 737 Airborne Early Warning and Control Aircraft.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 12, 2015 (Transmittal No. DDTC 14-145)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of M4 Commandos, Model R0933, 5.56mm and Armorer's and Operator's Training of the M4s for the Royal Oman Police.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 15, 2015 (Transmittal No. DDTC 15-036)

Honorable John A. Boehner, Speaker of the House of Representatives

Dear Mr. Speaker:

Pursuant to Section 36(c) of the Arms Export Control Act, I am transmitting certification of a proposed license for the export of technical data and defense services in the amount of $50,000,000 or more.

The transaction contained in the attached certification involves the transfer of technical data and defense services to support the Falcon 9 integration and launch of the JCSAT-16 Commercial Communication Satellite from Cape Canaveral.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 15, 2015 (Transmittal No. DDTC 15-004)

Honorable John A. Boehner, Speaker of the House of Representatives

Dear Mr. Speaker:

Pursuant to Section 3(d) of the Arms Export Control Act, I am transmitting certification of a proposed retransfer of defense articles, including technical data, and defense services in the amount of $50,000,000 or more.

The transaction contained in the attached certification involves the retransfer of defense articles, including technical data, and defense services to the Government of Brazil for the acquisition of thirty-six Gripen NG Fighter Aircraft with spares parts and ground equipment for maintenance, training, and logistics support for the aircraft.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

May 28, 2015 (Transmittal No. DDTC 15-014)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of Sig Sauer P226 Pistol TACOPS with Sound Suppressors and DBAL-PL Laser/illuminators for the Saudi Arabian Ministry of Defense.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 04, 2015 (Transmittal No. DDTC 15-033)

Honorable John A. Boehner, Speaker of the House of Representatives

Dear Mr. Speaker:

Pursuant to Section 36(c) of the Arms Export Control Act, I am transmitting certification of a proposed license for the export of firearm parts and components abroad controlled under Category I of the United States Munitions List in amount of $1,000,000 or more.

The transaction contained in the attached certification involves the export of Bolt and Bolt Carrier Assemblies for Colt M4/M16 and One-Piece Upper Receiver, and 14.5” Heavy Barrel Assemblies for the M4/M16 with spare parts and training for the Ministry of Home Affairs, Singapore Police Logistics Department.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 04, 2015 (Transmittal No. DDTC 15-016)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the export of defense articles, including technical data, and defense services to Japan to support the operation, installation, maintenance, and repair of the Mk15 Phalanx Close-In Weapons System (CIWS) Block 0 through Block 1B Baseline 2.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 11, 2015 (Transmittal No. DDTC 15-056)

Honorable John A. Boehner, Speaker of the House of Representatives

Dear Mr. Speaker:

Pursuant to Section 36(c) of the Arms Export Control Act, I am transmitting certification of a proposed license for the export of defense articles in the amount of $25,000,000 or more.

The transaction contained in the attached certification involves the export of MK80 Series/BLU-109 weapons to Israel.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 11, 2015 (Transmittal No. DDTC 15-001)

Honorable John A. Boehner, Speaker of the House of Representatives

Dear Mr. Speaker:

Pursuant to Section 36(c) and (d) of the Arms Export Control Act, I am transmitting certification of a proposed license amendment for export for the manufacture of significant military equipment abroad and the export of defense articles, including technical data, and defense services in the amount of 100,000,000 or more.

The transaction contained in the attached certification involves the export of defense articles, including technical data, and defense services to Japan for the production of the Evolved SeaSparrow Missile (ESSM).

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 12, 2015 (Transmittal No. DDTC 15-026)

Honorable John A. Boehner, Speaker of the House of Representatives

Dear Mr. Speaker:

Pursuant to Section 36(c) of the Arms Export Control Act, I am transmitting certification of a proposed license for the export of defense articles, including technical data, and defense services in the amount of $50,000,000 or more.

The transaction contained in the attached certification involves the transfer of defense articles, including technical data, and defense services to Japan and Israel to support the manufacture and assembly of Helmet Mounted Display Systems on fixed wing fighter aircraft for end-use by Armed Forces of Japan.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 12, 2015 (Transmittal No. DDTC 15-017)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services for the intermediate and depot level maintenance support of F110-GE-132 engines installed in F-16 Block 60 aircraft for end-use by the United Arab Emirates Armed Forces.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 15, 2015 (Transmittal No. DDTC 15-047)

Honorable John A. Boehner, Speaker of the House of Representatives

Dear Mr. Speaker:

Pursuant to Section 36(c) and 36 (d) of the Arms Export Control Act, I am transmitting certification of a proposed license for export for the manufacture of significant military equipment abroad and the export of defense articles, including technical data, and defense services in the amount of $1,000,000 or more.

The transaction contained in the attached certification involves the export of defense articles, including technical data, and defense services to Germany to support the manufacture and assembly of MCX 5.56mm Rifles in Germany for end-use by the French Ministry of Defense.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 16, 2015 (Transmittal No. DDTC 15-038)

Honorable John A. Boehner, Speaker of the House of Representatives

Dear Mr. Speaker:

Pursuant to Section 36(c) of the Arms Export Control Act, I am transmitting certification of a proposed license for the export of firearms, parts and components abroad controlled under Category I of the United States Munitions List in amount of $1,000,000 or more.

The transaction contained in the attached certification involves the export of various semi-automatic rifles, bolt action rifles, rifle barrels, and accessories to Delta Tactical to be used in target shooting, competition shooting, and custom rifle builds in Australia.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 16, 2015 (Transmittal No. DDTC 15-042)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to Canada for the development, testing, and manufacturing of the Improvised Drive System (IDS) transmission system, and parts thereof, for the AH-64D Apache helicopter Block III upgrade for end-use by the U.S. Army.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 16, 2015 (Transmittal No. DDTC 15-030)

Honorable John A. Boehner, Speaker of the House of Representatives

Dear Mr. Speaker:

Pursuant to Section 36(d) of the Arms Export Control Act, I am transmitting certification of a proposed license for the export of defense articles, including technical data, and defense services for the manufacture of significant military equipment abroad.

The transaction contained in the attached certification involves the export of defense articles, including technical data, and defense services to support the manufacture, assembly, training, testing, maintenance, and repair of the NL914A and NL914B night vision monoculars, the NL963A night vision goggle, and the NL949A aviator's night vision goggle in the Philippines.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 22, 2015 (Transmittal No. DDTC 14-050)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to Turkey, Canada, and the United Kingdom to support the engineering, installation, operation, maintenance, and training for the establishment of a multifaceted Turkish Electronic Warfare Program to include airborne electronic warfare assets.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

June 25, 2015 (Transmittal No. DDTC 14-114)

Honorable John A. Boehner, Speaker of the House of Representatives

Dear Mr. Speaker:

Pursuant to Section 36(c) of the Arms Export Control Act, I am transmitting certification of a proposed license for the export of defense articles, including technical data, and defense services in the amount of $14,000,000 or more.

The transaction contained in the attached certification involves the export of defense articles, including technical data, and defense services to Iraq to support the operational use of the AGM-65G2 Tactical Missile and TGM-65G Training Missile systems.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

July 15, 2015 (Transmittal No. DDTC 14-133)

Honorable John A. Boehner, Speaker of the House of Representatives

Dear Mr. Speaker:

Pursuant to Section 36(c) and (d) of the Arms Export Control Act, I am transmitting certification of a proposed license for export for the manufacture of significant military equipment abroad and the export of defense articles, including technical data, and defense services in the amount of $100,000,000 or more.

The transaction contained in the attached certification involves the export of defense articles, including technical data, and defense services to support the production of Turkish Utility (T-70) Helicopters, which are based on the S-70i international version of the Sikorsky Black Hawk, for end use by Turkish Ministry of Defense.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

July 15, 2015 (Transmittal No. DDTC 14-135)

Honorable John A. Boehner, Speaker of the House of Representatives

Dear Mr. Speaker:

Pursuant to Section 36(c) of the Arms Export Control Act, I am transmitting certification of a proposed license for the export of defense articles, including technical data, and defense services in the amount of $100,000,000 or more.

The transaction contained in the attached certification involves the export of defense articles, including technical data, and defense services to support the development of Avionics Systems for Turkish Utility (T-70) Helicopters which are based on the S-70i international version of the Black Hawk for end use by Turkish Ministry of Defense.

The United States government is prepared to license the export of these items having taken into account political, military, economic, human rights, and arms control considerations.

More detailed information is contained in the formal certification which, though unclassified, contains business information submitted to the Department of State by the applicant, publication of which could cause competitive harm to the United States firm concerned.

Sincerely,

Julia Frifield

Assistant Secretary, Legislative Affairs

Dated: December 20, 2015.
Lisa V. Aguirre,
Director of Management, Directorate of Defense Trade Controls, U.S. Department of State.

[FR Doc. 2015-33297 Filed 1-5-16; 8:45 am]

BILLING CODE 4710-25-P